DEPARTMENT OF JUSTICE

Notice of Lodging of Consent Decree Under the Clean Water Act

Notice is hereby given that on September 16, 2003, a proposed Consent Decree in United States v. Phelps Dodge Corporation, Civil Action No. CIV-03-1804-PHX-SMM, was lodged with the United States District Court for the District of Arizona.

In this action the United States sought injunctive relief and civil penalties for violations of section 301(a) of the Clean Water Act, 33 U.S.C. 1311(a), at the United Verde mine near Jerome, Arizona. The defendant is Phelps Dodge Corporation, the owner of the United Verde mine.

Under the terms of the proposed settlement, Phelps Dodge will pay a civil penalty of $220,142. In addition, Phelps Dodge will carry out three projects at the United Verde mine designed to address the violations alleged in the complaint.

The Department of Justice will receive for a period of thirty (30) days from the date of this publication, comments relating to the Consent Decree. Comments should be addressed to the Assistant Attorney General, Environment and Natural Resources Division, P.O. Box 7611, U.S. Department of Justice, Washington, DC 20044-7611, and should refer to United States v. Phelps Dodge Corporation, D.J. Ref. 90-5-1-1-07311.

The Consent Decree may be examined at the Office of the United States Attorney, Sue A. Klein, Assistant U.S. Attorney, Two Renaissance Square, 40 North Central Ave., Suite 1200, Phoenix, AZ 8500. During the public comment period, the Consent Decree may also be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 616-6584, phone confirmation number (202) 514-1547. In requesting a copy, please enclose a check in the amount of $9.25 (37 pages at 25 cents per page reproduction cost) payable to the U.S. Treasury.

Ellen Mahan,
Assistant Section Chief, Environmental Enforcement Section, Environment and Natural Resources Division.

[FR Doc. 03-24934 Filed 10-1-03; 8:45 am]

BILLING CODE 4410-15-M